DEPARTMENT OF AGRICULTURE

Agricultural Research Service

Advisory Committee on Biotechnology and 21st Century Agriculture; Nominations

AGENCY: Office of the Under Secretary, Research, Education, and Economics, USDA.

ACTION: Notice.

SUMMARY: The Agricultural Research Service is requesting nominations for qualified persons to serve as members of the Secretary's Advisory Committee on Biotechnology and 21st Century Agriculture (AC21). The charge for the AC21 is two-fold: to examine the long-term impacts of biotechnology on the U.S. food and agriculture system and USDA; and to provide guidance to USDA on pressing individual issues, identified by the Office of the Secretary, related to the application of biotechnology in agriculture.

DATES: Written nominations must be received by fax or postmarked on or before November 14, 2005.

ADDRESSES: All nomination materials should be sent to Michael Schechtman, Designated Federal Official, Office of the Deputy Secretary, USDA, 202B Jamie L. Whitten Federal Building, 14th and Independence Avenue, SW., Washington, DC 20250. Forms may also be submitted by fax to (202) 690-4265.

FOR FURTHER INFORMATION CONTACT: Questions should be addressed to Michael Schechtman, Designated Federal Official, telephone (202) 720-3817; fax (202) 690-4265; e-mail mschechtman@ars.usda.gov. To obtain form AD-755 ONLY please contact Dianne Harmon, Office of Pest Management Policy, telephone (202) 720-4074, fax (202) 720-3191; e-mail dharmon@ars.usda.gov.

SUPPLEMENTARY INFORMATION:

AC21 members serve staggered 2-year terms, with terms for half of the Committee members expiring in any given year. Nominations are being sought for open Committee seats. The terms of 9 members of the AC21 will expire in early 2006. The AC21 Charter allows for flexibility to appoint up to a total of 10 members. Members can be reappointed to serve up to 6 consecutive years. Equal opportunity practices, in line with USDA policies, will be followed in all membership appointments to the Committee. To ensure that the recommendations of the Committee have taken into account the needs of the diverse groups served by USDA, membership shall include, to the extent practicable, individuals with demonstrated ability to represent minorities, women, and persons with disabilities.

Nominees of the AC21 should have recognized expertise in one or more of the following areas: Recombinant-DNA (rDNA) research and applications using plants; rDNA research and applications using animals; rDNA research and applications using microbes; food science; silviculture and related forest science; fisheries science; ecology; veterinary medicine; the broad range of farming or agricultural practices; weed science; plant pathology; biodiversity; applicable laws and regulations relevant to agricultural biotechnology policy; risk assessment; consumer advocacy and public attitudes; public health/epidemiology; ethics, including bioethics; human medicine; biotechnology industry activities and structure; intellectual property rights systems; and international trade. Members will be selected by the Secretary of Agriculture in order to achieve a balanced representation of viewpoints to address effectively USDA biotechnology policy issues under consideration. Over the next two years, it is expected that the AC21 will address topics related to biotechnology coexistence issues, priorities for development of biotechnology-derived crops other than major uses of commodity crops, transgenic animals, and perhaps other topics.

Nominations for AC21 membership must be in writing and provide the appropriate background documents required by USDA policy, including background disclosure form AD-755.

The AC21 meets in Washington, DC, up to four (4) times per year. The function of the AC21 is solely advisory. Members of the AC21 and its subcommittees serve without pay, but with reimbursement of travel expenses and per diem for attendance at AC21 and subcommittee functions for those AC21 members who require assistance in order to attend the meetings. While away from home or their regular place of business, those members will be eligible for travel expenses paid by REE, USDA, including per diem in lieu of subsistence, at the same rate as a person employed intermittently in the government service is allowed under Section 5703 of Title 5, United States Code.

Submitting Nominations: Nominations should be typed and include the following:

1. A brief summary of no more than two (2) pages explaining the nominee's suitability to serve on the AC21.

2. A resume or curriculum vitae.

3. A completed copy of form AD-755.

Nominations should be sent to Michael Schechtman at the address listed above, and be postmarked no later than November 14, 2005.

Dated: October 6, 2005.
Bernice Slutsky,
Senior Advisor to the Secretary for Biotechnology.

[FR Doc. 05-20478 Filed 10-12-05; 8:45 am]

BILLING CODE 3410-03-P